DEPARTMENT OF TRANSPORTATION

Federal Railroad Administration

[Waiver Petition Docket Number FRA-2003-16439]

Notice of Public Hearing; Canadian Pacific Railway

On December 11, 2003, FRA published a notice in the Federal Register announcing Canadian Pacific Railway Company's (CPR) intent to be granted a waiver of compliance from certain provisions of the Railroad Locomotive Safety Standards, 49 CFR Part 229 on behalf of themselves, their U.S. subsidiaries, the Delaware & Hudson and the Soo Line Railroads, and the New York Air Brake Corporation (NYAB). See 68 FR 69122. Specifically, CPR requested relief from the requirements of 49 CFR 229.27(a)(2) Annual Tests and 49 CFR 229.29(a) Biennial Tests, in order to evaluate extending the required periodic maintenance time intervals for NYAB generation II Computer Controlled Brake (CCB) equipment.

CPR has proposed evaluating the extended COT&S intervals according to a test plan that NYAB developed for CPR and Transport Canada. The test plan has assigned locomotives into tests groups based on the scheduled periodic maintenance cycles. Candidate locomotives for test tear-downs would only include those units which have not had a prior COT&S and which have had the least amount of air brake maintenance activity since entering service. Approval of this waiver would permit the continued operation of the test locomotives in the United States, as the COT&S time intervals are extended beyond the five-year requirement. It will also add to the industry's knowledge of the reliability of the CCB technology, building on a similar waiver (FRA-1999-6252) which was granted to CSXT on September 1, 2000. It is CPR's intention that FRA would join Transport Canada and NYAB in evaluating the extended COT&S intervals for their CCB equipped locomotives, if this waiver is approved.

As a result of the comments received by FRA concerning this waiver petition, FRA has determined that a public hearing is necessary before a final decision is made on this petition. Accordingly, a public hearing is hereby set for 1 p.m. on July 13, 2004, at the Washington Plaza Hotel, 10 Thomas Circle, NW (at Massachusetts Avenue and 14th Street), Washington, DC 20005. Interested parties are invited to present oral statements at this hearing.

The hearing will be informal and will be conducted in accordance with FRA's Rules of Practice (49 CFR 211.25) by a representative designated by FRA. FRA's representative will make an opening statement outlining the scope of the hearing, as well as any additional procedures for the conduct of the hearing. The hearing will be a non-adversarial proceeding in which all interested parties will be given the opportunity to express their views regarding this waiver petition, without cross-examination. After all initial statements have been completed, those persons wishing to make a brief rebuttal will be given an opportunity to do so in the same order in which initial statements were made.

Issued in Washington, DC, on June 4, 2004.
Grady C. Cothen, Jr.,
Acting Associate Administrator for Safety.

[FR Doc. 04-13259 Filed 6-10-04; 8:45 am]

BILLING CODE 4910-06-P